DEPARTMENT OF COMMERCE

International Trade Administration

[A-570-001]

Potassium Permanganate From the People's Republic of China: Final Results of Antidumping Duty Administrative Review

AGENCY: Import Administration, International Trade Administration, Department of Commerce.

ACTION: Notice of final results of antidumping duty administrative review.

SUMMARY: On February 18, 2003, the Department of Commerce (the Department) published the preliminary results of the administrative review of the antidumping duty order on potassium permanganate from the People's Republic of China (PRC). The review covers potassium permanganate (subject merchandise) exported to the United States by Groupstars Chemical Co., Ltd. (Groupstars Jinan) during the period from January 1, 2001 through December 31, 2001.

Based on our analysis of the comments and additional factual information received after publication of the preliminary results of review, we have made changes in the margin calculation. Therefore, the final results differ from the preliminary results. The final weighted-average dumping margin for the reviewed firm is listed below in the section entitled Final Results of Review.

EFFECTIVE DATE: August 28, 2003.

FOR FURTHER INFORMATION CONTACT: John Conniff, Drew Jackson or Howard Smith, Office of AD/CVD Enforcement, Office 4, Group II, Import Administration, International Trade Administration, U.S. Department of Commerce, 14th Street and Constitution Avenue, NW., Washington, DC 20230; telephone (202) 482-1009, (202) 482-4406 or (202) 482-5193, respectively.

SUPPLEMENTARY INFORMATION:

Background

On February 18, 2003, the Department published the preliminary results of the administrative review of the antidumping duty order on potassium permanganate from the PRC. See Potassium Permanganate from the People's Republic of China: Preliminary Results of Antidumping Duty Administrative Review, 68 FR 7768 (February 18, 2003) (Preliminary Results). We invited parties to comment on our preliminary results of review.

Since the publication of the preliminary results, the following events have occurred. On March 10, 2003, Groupstars submitted publicly available surrogate value information regarding manganese ore.¹ In March, April and May of 2003 Groupstars and Carus Chemical Company, the petitioner, submitted new factual information. The Department accepted this information. See memorandum from John Conniff, International Trade Compliance Analyst, to the File concerning Submission of technical information by Carus Chemical Company dated April 16, 2003 and memorandum from John Conniff, International Trade Compliance Analyst, to Thomas F. Futtner, Acting Office Director, concerning Submission of Untimely Filed Factual Information by the Petitioner and the Respondent, dated July 30, 2003. The petitioner and the respondent submitted case briefs on May 7, 2003 and rebuttal briefs on May 12, 2003. On July 24, 2003, the Department held a public hearing that had been requested by the petitioner.

¹ Groupstars refers to Groupstars Holding Inc. and the entities that it directly or indirectly owns (including Groupstars Jinan).

On June 11, 2003, the Department extended the time limit for completion of the final results until no later than August 17, 2003. See Potassium Permanganate from the People's Republic of China: Extension of Time Limit for the Final Results of Antidumping Duty Administrative Review, 68 FR 34907 (June 11, 2003). The Department has conducted this administrative review in accordance with section 751 of the Tariff Act of 1930, as amended (the Act).

Scope of the Review

Imports covered by this review are shipments of potassium permanganate, an inorganic chemical produced in free-flowing, technical, and pharmaceutical grades. During the review period, potassium permanganate was classifiable under item 2841.61.0000 of the Harmonized Tariff Schedule of the United States (HTSUS).² Although the HTSUS subheading is provided for convenience and customs purposes, our written description of the scope of the order is dispositive.

² The scope reflects the HTSUS subheading currently in effect which differs from the HTSUS subheading used in the prior segment of this proceeding.

Period of Review

The POR is January 1, 2001 through December 31, 2001.

Analysis of Comments Received

All issues raised in the case briefs and the rebuttal briefs submitted by parties to this administrative review are contained in the Issues and Decision Memorandum from Holly A. Kuga, Acting Deputy Assistant Secretary, to Jeffrey May, Acting Assistant Secretary (Issues and Decision Memorandum). The Issues and Decision Memorandum is dated concurrently with this notice and hereby adopted by this notice. A list of the issues which the parties have raised is attached to this notice as an Appendix. Parties can find a complete discussion of all issues raised in this administrative review, and the corresponding recommendations, in the Issues and Decision Memorandum which is on file in the Central Records Unit, room B-099 of the main Department of Commerce building. In addition, a complete version of the Issues and Decision Memorandum can be accessed directly on the Web at http://ia.ita.doc.gov. The paper copy and electronic version of the Issues and Decision Memorandum are identical in content.

Changes Since the Preliminary Results—Use of Total Adverse Facts Available

Section 776(a)(2) of the Act provides that, if an interested party (A) withholds information requested by the Department, (B) fails to provide such information by the deadline for submission of the information, or in the form and manner requested, (C) significantly impedes a proceeding under the antidumping statute, or (D) provides information that cannot be verified, the Department shall use, subject to section 782(d) of the Act, facts otherwise available in reaching the applicable determination. Because Groupstars was unable to support its response with accurate and reliable records, we have determined that Groupstars' response is not verifiable and the use of total facts available is appropriate. See section 776(a)(2)(D) of the Act. For a complete discussion of our analysis, see the accompanying Issues and Decision Memorandum at Comment 1. Moreover, because Groupstars has never established its entitlement to a separate rate in a prior segment of this proceeding, and the Department has determined that the record in the instant review is unreliable and thus not verifiable, we have not granted Groupstars a separate rate.

In selecting from among the facts otherwise available, section 776(b) of the Act provides that if the Department finds that an interested party failed to cooperate by not acting to the best of its ability to comply with a request for information, the Department may use an inference that is adverse to the interests of the party. The Act provides that an adverse inference may include reliance on information derived from the petition, a final determination in an antidumping investigation or review, or any other information placed on the record. See section 776(b)(1)-(4) of the Act. The Department's examination of the instant record shows that Groupstars has repeatedly submitted inconsistent, inaccurate and incomplete information in this review and has withheld information from the Department. This demonstrates that the respondent has failed to cooperate to the best of its ability pursuant to section 776(b) of the Act. Therefore, the use of adverse facts available is appropriate.

Because it is appropriate to assign Groupstars a dumping margin based on adverse facts available and deny the company a separate rate, for these final results, we have assigned the PRC entity, including Groupstars, a dumping margin of 128.94 percent, which is the highest margin calculated for any party in this proceeding and the current PRC-wide rate. For a complete discussion of our analysis, see the accompanying Issues and Decision Memorandum at Comment 1.

Final Results of Review

Exporter/Manufacturer | Margin (percent)
PRC-Wide Rate | 128.94

Cash Deposit Requirements

The following cash deposit requirements will be effective upon publication of this notice of final results of administrative review for all shipments of potassium permanganate from the PRC entered, or withdrawn from warehouse, for consumption on or after the date of publication, as provided by section 751(a)(1) of the Act: (1) For previously reviewed or investigated companies that have separate rates, the cash deposit rate will continue to be the company-specific rate published for the most recent period; (2) the cash deposit rate for all other PRC exporters will be 128.94 percent; and (3) the cash deposit rate for non-PRC exporters will be the rate applicable to the PRC exporter that supplied that exporter.

These deposit requirements shall remain in effect until publication of the final results of the next administrative review.

Assessment

The Department will determine, and the U.S. Bureau of Customs and Border Protection (BCBP) will assess, antidumping duties on all entries of subject merchandise in accordance with these final results. The Department will issue the appropriate assessment instructions directly to the BCBP within 15 days of publication of these final results of review. The Department will direct the BCBP to assess the resulting assessment rate against the entered customs values of the subject merchandise on each of the entries during the review period.

Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Administrative Protective Orders

This notice also serves as the only reminder to parties subject to administrative protective orders (APOs) of their responsibility concerning the return or destruction of proprietary information disclosed under an APO in accordance with 19 CFR 351.305 of the Department's regulations. Timely written notification of the return/destruction of APO materials or conversion to judicial protective order is hereby requested. Failure to comply with the regulations and terms of an APO is a violation which is subject to sanction.

We are issuing and publishing this determination and notice in accordance with sections section 751(a)(1) and 771(I)(1) of the Act.

Dated: August 18, 2003.
Jeffrey May,
Acting Assistant Secretary for Import Administration.

Appendix—Issues in Decision Memorandum

Comment 1: Whether the Department Should Base Groupstars Jinan's Dumping Margin on Total Adverse Facts Available

Comment 2: Whether the Department Should “Collapse” Groupstars and JCC

Comment 3: Surrogate Value for Manganese Dioxide

Comment 4: Surrogate Value for Potassium Hydroxide

Comment 5: Surrogate Value for Slaked Lime/Lime/Limestone

Comment 6: Surrogate Value for Electricity and Water

Comment 7: Surrogate Value for Coal

Comment 8: Surrogate Value for Salt

Comment 9: Surrogate Value for Silicon Dioxide

Comment 10: Selection of Surrogate Financial Ratios

Comment 11: Allegations of Ministerial Errors Related to the Calculation of Packing Materials

Comment 12: Allegations of Ministerial Errors Related to the Calculation of Distance to the Port

Comment 13: Whether the Department Should Have Included in its Calculations Additional Indirect Selling and Movement Expenses

[FR Doc. 03-22049 Filed 8-27-03; 8:45 am]

BILLING CODE 3510-DS-P